FEDERAL COMMUNICATIONS COMMISSION

Notice of Public Information Collection(s) Being Submitted for Review and Approval to the Office of Management and Budget (OMB), Comments Requested

April 13, 2010.

SUMMARY: The Federal Communications Commission, as part of its continuing effort to reduce paperwork burden invites the general public and other Federal agencies to take this opportunity to comment on the following information collection(s), as required by the Paperwork Reduction Act (PRA) of 1995, 44 U.S.C. 3501 - 3520. Comments are requested concerning: (a) Whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees.

The FCC may not conduct or sponsor a collection of information unless it displays a currently valid control number. No person shall be subject to any penalty for failing to comply with a collection of information subject to the Paperwork Reduction Act (PRA) that does not display a currently valid OMB control number.

DATES: Written Paperwork Reduction Act (PRA) comments should be submitted on or before May 24, 2010. If you anticipate that you will be submitting PRA comments, but find it difficult to do so within the period of time allowed by this notice, you should advise the FCC contact listed below as soon as possible.

ADDRESSES: Direct all PRA comments to Nicholas A. Fraser, Office of Management and Budget, via fax at 202-395-5167 or via the Internet at Nicholas_A._Fraser@omb.eop.gov and to the Federal Communications Commission via email to PRA@fcc.gov. To view a copy of this information collection request (ICR) submitted to OMB: (1) Go to the Web page http://reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: Judith B. Herman, Office of Managing Director, (202) 418-0214. For additional information or copies of the information collection(s), contact Judith B. Herman, OMD, 202-418-0214, Judith-b.herman@fcc.gov.

SUPPLEMENTARY INFORMATION: OMB Control Number: 3060-0856.

Title: Universal Service - Schools and Libraries Universal Service Program Reimbursement Forms.

Form Numbers: FCC Forms 472, 473, and 474.

Type of Review: Extension of a currently approved collection.

Respondents: Business or other for-profit, not-for-profit institutions and state, local or tribal government.

Number of Respondents and Responses: 22,200 respondents; 97,100 responses.

Estimated Time per Response: 1 - 1.5 hours.

Frequency of Response: On occasion and annual reporting requirements and third party disclosure requirement.

Obligation to Respond: Required to obtain or retain benefits. Statutory authority for this information collection is contained in 47 U.S.C. sections 1, 4(i), 4(j), 201-205, 214, 254, 312(d), 312(f), 403 and 503(b).

Total Annual Burden: 143,150 hours.

Total Annual Cost: N/A.

Privacy Act Impact Assessment: N/A.

Nature and Extent of Confidentiality: The Commission does not require respondents to submit confidential information to the Commission. If the Commission does request applicants to submit information that the respondent believes is confidential, respondents may request confidential treatment of such information under 47 CFR 0.459 of the Commission's rules.

Needs and Uses: The Commission will submit this expiring information collection to the Office of Management and Budget (OMB) during this comment period to obtain the full three year clearance from them. There is no change to the reporting and/or third party disclosure requirements. The Commission is now reporting a 9,500 hour increase in burden which is due to an increase in the number of respondents based on the actual number of participants in the E-rate program. For the FCC Form 473, the Commission reduced the number of respondents to 5,000 based on the actual number of service providers filing FCC Form 473 in the funding year 2008. There were no changes to the form.

FCC Form 472 is the Billed Entity Applicant Reimbursement Form that billed entities may pay the full amount for eligible services directly to the service providers and then, once services have been received, seek reimbursement from USAC to cover the amounts of the discounts for which they have qualified.

FCC Form 473 is the Service Provider Annual Certification Form is used by the service provider to attest that the invoices submitted under the E-rate program will comply with FCC rules governing the E-rate program. Service providers must submit a FCC Form 473 each year to be eligible to submit invoices, and to use their service provider identification number (SPIN).

FCC Form 474 is the Service Provider Invoice Form which is an alternative to paying in full for eligible services for the billed entity to pay only the amounts for eligible services that have been discounted already by the service provider. Under is alternative, once services have been received, service providers seek payment from USAC to cover the amounts of the discounts for which the billed entity has qualified.

Federal Communications Commission.
Marlene H. Dortch,
Secretary,
Office of the Secretary,
Office of Managing Director.

[FR Doc. 2010-9256 Filed 4-21-10; 8:45 am]

BILLING CODE 6712-01-S